Memorandum of August 28, 2025

Use of Appropriated Funds for Illegal Lobbying and Partisan Political Activity by Federal Grantees

Memorandum for the Attorney General

By the authority vested in me as President by the Constitution and the laws of the United States of America, I hereby direct:

Section 1. Investigations Into Use of Federal Grant Funds. Federal funding reviews by my Administration have revealed that taxpayer funds are being spent on grants with highly political overtones.

In addition to being a wasteful, abusive, and potentially fraudulent use of the American people's money, the possible use of Federal grants as slush funds for political and legislative advocacy raises serious legal concerns. Federal law places strict limitations on the use of Federal grant funds, and in many instances prohibits grantees from lobbying with appropriated funds or supporting political candidates or parties with grant funds.

Therefore, consistent with my duty to take care that the laws are faithfully executed, I hereby direct the Attorney General, in consultation with the heads of executive departments and agencies, to investigate whether Federal grant funds are being used to illegally support lobbying activities (See, 31 U.S.C. 1352) and to take appropriate enforcement action. The Attorney General shall report to the President within 180 days of the date of this memorandum on the progress of the investigation.

Sec. 2. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) You are authorized and directed to publish this memorandum in the Federal Register.

THE WHITE HOUSE,

Washington, August 28, 2025

[FR Doc. 2025-16935

Filed 9-2-25; 11:15 am]

Billing code 4410-19-P